DEPARTMENT OF HOMELAND SECURITY

U.S. Immigration and Customs Enforcement

[OMB No. 1653-0049]

Agency Information Collection Activities: Emergency Revision of a Currently Approved Collection: Suspicious/Criminal Activity Tip Reporting

AGENCY: U.S. Immigration and Customs Enforcement.

ACTION: 60-Day notice.

SUMMARY: U.S. Immigration and Customs Enforcement (ICE) of the U.S. Department of Homeland Security (DHS) submitted a request to the Office of Management and Budget (OMB) for emergency clearance and review under 5 CFR 1320.13 for the information collection Suspicious/Criminal Activity Tip Reporting, OMB Control Number 1653-0049. As required by the Paperwork Reduction Act of 1995 (PRA), (Pub. L. 104-13, 44 U.S.C. chapter 35) as amended by the Clinger-Cohen Act (Pub. L. 104-106), DHS is soliciting comments for this collection.

DATES: Comments are encouraged and must be submitted February 17, 2026 to be assured of consideration.

ADDRESSES: All submissions received must include the OMB Control Number 1653-0049 in the body of the correspondence, the agency name and Docket ID ICEB-2019-0010. All comments received will be posted without change to http://www.regulations.gov, including any personal information provided. Submit comments via the Federal eRulemaking Portal website at http://www.regulations.gov under e-Docket ID number ICEB 2019-0010.

FOR FURTHER INFORMATION CONTACT: For specific question related to collection activities, please contact Jody C. Fasenmyer (802-662-8115), jody.c.fasenmyer@ice.dhs.gov, U.S. Immigration and Customs Enforcement. (This is not a toll-free number. Comments are not accepted via telephone message.)

SUPPLEMENTARY INFORMATION: This collection was previously approved with changes on October 31, 2024. In the previous 60-day FRN ICE announced that it amended the Tip Line form with additional drop downs to make it easier for individuals to fill out the form. There was always a separate drop down for Law Enforcement Officers (LEOs), but it led to a free text box to supply the necessary information. With more LEOs providing information, ICE realized it needed more precise information to be able to process the tips provided. Therefore, ICE has added new fields that enables LEOs to provide all of the information needed by ICE without having to worry about remembering to put all that information into a free text field. ICE requested emergency approval of these changes from OMB on December 5, 2025, and received a temporary six-month approval, which expires June 30, 2026, during which time the agency can conduct the normal notice and comment PRA process. This notice is the first step in that process. The information is collected from members of the public and law enforcement partners who provide it using a fill-in-the-blank form available on the ICE.GOV (https://www.ice.gov/webform/hsi-tip-form) website. Once completed, the Tip Form is electronically transmitted to the appropriate agency with responsibility for researching the allegation. All other tips are transmitted to Intelligence Research Specialists (IRS) at the Homeland Security Investigations Tip-line unit. IRSs conduct queries in DHS, law enforcement, and immigration databases, analyze the results, write investigative reports, and then refer leads to the DHS office with geographic and programmatic responsibility for the reported allegation. Receiving offices use the information provided to conduct investigations and other enforcement actions in support of DHS goals and objectives. ICE also offers the public the option to speak directly with an IRS to report allegations through a toll-free phone (866-DHS-2-ICE).

Comment

You may access the information collection instrument with instructions or additional information by visiting the Federal eRulemaking Portal site at: https://www.regulations.gov and entering ICEB-2019-0010 in the search box. All submissions will be posted, without change, to the Federal eRulemaking Portal at https://www.regulations.gov, and will include any personal information you provide. Therefore, submitting this information makes it public. You may wish to consider limiting the amount of personal information that you provide in any voluntary submission you make. DHS may withhold information provided in comments from public viewing that it determines may impact the privacy of an individual or is offensive. For additional information, please read the Privacy Act notice that is available via the link in the footer of https://www.regulations.gov.

Written comments and suggestions from the public and affected agencies concerning the proposed collection of information should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Overview of This Information Collection

1. Agency: U.S. Immigration and Customs Enforcement, U.S. Department of Homeland Security.

2. Title: Suspicious/Criminal Activity Tip Reporting.

3. OMB Number: 1653-0049.

4. Frequency: On occasion.

5. Affected Public: Individuals.

6. Number of Respondents: 515,358.

7. Estimated Time per Respondent: 11 minutes.

8. Total Burden Hours: 94,482.

Dated: December 15, 2025.
Scott Elmore,
PRA Clearance Officer, Office of the Chief Information Officer, U.S. Immigration and Customs Enforcement.

[FR Doc. 2025-23095 Filed 12-16-25; 8:45 am]

BILLING CODE 9111-28-P